DEPARTMENT OF LABOR

Employment and Training Administration

[TA-W-81,862]

Brockway Mould, Inc., a Division of Ross International Ltd. Including Robert Lerch From BJR Trucking, Brockport, PA; Amended Certification Regarding Eligibility To Apply for Worker Adjustment Assistance

In accordance with Section 223 of the Trade Act of 1974, as amended (“Act”), 19 U.S.C. 2273, the Department of Labor (Department) issued a Certification of Eligibility to Apply for Worker Adjustment Assistance on September 17, 2012, applicable to workers and former workers of Brockway Mould, Inc., a division of Ross International Ltd, Brockport, Pennsylvania (subject firm). The workers are engaged in activities related to the production of mould equipment primarily used to produce bottles, containers, and jars. The Department's Notice was published in the Federal Register on October 5, 2012 (77 FR 61030).

At the request of a company official, the Department reviewed the certification for workers of the subject firm. New information from the subject firm reflects that one employee (Robert Lerch) from BJR Trucking was employed on-site at the Brockport, Pennsylvania location of Brockway Mould, Inc. The Department has determined that this employee was sufficiently under the control of Brockway Mould, Inc. to be included in this certification.

The intent of the Department's certification is to include all workers of the subject firm who were adversely affected by a shift in the production of mould equipment for glass containers to Columbia and Hungary.

Based on these findings, the Department is amending this certification to include Robert Lerch from BJR Trucking.

The amended notice applicable to TA-W-81,862 is hereby issued as follows:

“All workers from Brockway Mould, Inc., a division of Ross International Ltd., including Robert Lerch from BJR Trucking, Brockway, Pennsylvania, who became totally or partially separated from employment on or after August 31, 2012, through September 17, 2014, and all workers in the group threatened with total or partial separation from employment on September 17, 2012 through September 17, 2014, are eligible to apply for adjustment assistance under Chapter 2 of Title II of the Trade Act of 1974, as amended.”

Signed at Washington, DC this 6th day of February, 2013.
Del Min Amy Chen,
Certifying Officer, Office of Trade Adjustment Assistance.

[FR Doc. 2013-04019 Filed 2-21-13; 8:45 am]

BILLING CODE 4510-FN-P